DEPARTMENT OF JUSTICE

[AAG/A Order No. 221-2001]

Privacy Act of 1974; System of Records

Pursuant to the provisions of the Privacy Act of 1974 (5 U.S.C. 552a), the Immigration and Naturalization Service (INS), Department of Justice, proposes to establish and publish a new system of records for which no public notice consistent with the provisions of 5 U.S.C. 552a(e)(4) have been published. This system of records is entitled:

The Job Swap/Job Exchange System (JOBX), JUSTICE/INS-030

In accordance with 5 U.S.C. 552a(e)(4) and (11), the public is given a 30-day period in which to comment on the new routine uses. The Office of Management and Budget (OMB), which has oversight responsibility under the Act, requires a 40-day period in which to conclude its review of the system. Therefore, please submit any comments by (30 days from the publication date of this notice). The public, OMB, and the Congress are invited to submit any comments to Mary Cahill, Management Analyst, Management and Planning Staff, Justice Management Division, Department of Justice, Washington, DC 20530 (Room 1400, National Place Building).

In accordance with 5 U.S.C. 552a(r), the Department has provided a report to OMB and the Congress.

Dated: February 21, 2001.
Stephen R. Colgate,
Assistant Attorney General for Administration.

JUSTICE/INS-030

SYSTEM NAME:

Job Swap/Job Exchange System (JOBX).

SYSTEM LOCATION:

Immigration and Naturalization Service (INS) Headquarters, Regional and District Offices, and sub-offices as detailed in JUSTICE/INS-999, last published April 13, 1999 (64 FR 18052).

CATEGORIES OF INDIVIDUALS COVERED BY THE SYSTEM:

Individuals covered by the system would include all permanent INS employees interested in applying to transfer to an identical position at another location.

CATEGORIES OF RECORDS IN THE SYSTEM:

Records in this system of records contain personal data including social security number, name, Service Computation Date-leave, performance appraisal rating and date, home and work addresses, home and work telephone numbers, title, series, and grade, and personal resume information voluntarily submitted by the employee.

AUTHORITY FOR MAINTENANCE OF THE SYSTEM:

5 CFR 335.102(a).

PURPOSE(S):

The records in this system are part of a Merit Promotion and Reassignment Program and consist of potential selectees for positions covered by the program. Records are maintained to allow selecting officials to make valid selections, as well as to provide a record of applicant requests for consideration. Also, records in the system are maintained as a means to track the transfers allowed in the JOBX program. The JOBX program supports the Job Swap program by facilitating the non-competitive swap of employees between two duty stations, provided they have the same title, series, and grade. The Job Swap Program allows employees of encumbered positions to apply for and receive changes in geological locations without waiting for vacancies to occur or new positions to be established.

ROUTINE USES OF RECORDS MAINTAINED IN THE SYSTEM, INCLUDING CATEGORIES OF USERS AND THE PURPOSES OF SUCH USES:

A. To the Office of Personnel Management to enable the agency to make determination as required by 5 CFR 335.103.

B. In a proceeding before a court or adjudicative body before which INS or the Department of Justice (DOJ) is authorized to appear when any of the following is a party to litigation or has an interest in litigation and such records are determined by INS or DOJ to be arguably relevant to the litigation: (1) The DOJ, or any DOJ component or subdivision thereof; (2) any DOJ employee in his or her official capacity; (3) any DOJ employee in his or her individual capacity when the DOJ has agreed to represent the employee; and (4) the United States where INS or the DOJ determines that the litigation is likely to affect it or any of its subdivisions.

C. To the Merit Systems Protection Board or the Office of the Special Counsel in connection with appeals, special studies of the civil service and other merit systems, review of office rules and regulations, investigations of alleged or possible prohibited personnel practices, and such other functions, e.g., as prescribed in 5 U.S.C. Chapter 12, or as may be authorized by law.

D. To the Equal Employment Opportunity Commission, when requested, in connection with investigations into alleged or possible discrimination practices in the Federal sector, examination of Federal affirmative employment programs, compliance by Federal agencies with the Uniform Guidelines or Employee Selection Procedures, or other functions vested in the Commission.

E. To a Member of Congress, or staff acting upon the Member's behalf, when the Member or staff requests the information on behalf of and at the request of the individual who is the subject of the record.

F. To General Services Administration and National Archives and Records Administration in records management inspections conducted under the authority of 44 U.S.C. 2904 and 2906.

G. To the Federal Labor Relations Authority or its General Counsel when requested in connection with investigations of allegations of unfair labor practices or matters before the Federal Service Impasses Panel.

H. To contractors, grantees, experts, consultants, students, and others performing or working on a contract, service, grant, cooperative agreement, or other assignment for the Federal government, when necessary to accomplish an agency function related to this system of records.

I. To disclose information to an arbitrator to resolve disputes under a negotiated grievance procedure or to officials of labor organizations recognized under 5 U.S.C. Chapter 71 when relevant and necessary to their duties of exclusive representation.

J. To the Union when required by contract as part of the processing of a grievance and/or to an arbitrator in the arbitration of a grievance.

K. Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING, AND DISPOSING OF RECORDS IN THE SYSTEM: STORAGE:

Information is stored on computer tapes, magnetic disks, and in file cabinets.

RETRIEVABILITY:

Records may be retrieved by name, Social Security Number (SSN), or unique JOBX number.

SAFEGUARDS:

Most INS offices are located in buildings under security guard, and access to premises is by official identification. Offices are locked during non-duty hours. Access to this system is obtained through remote terminals that require the use of restricted passwords and a user ID. Paper records will be maintained in locked file cabinets. The JOBX server will be maintained in a secure computer facility.

RETENTION AND DISPOSAL:

Records are retained in accordance with General Records Schedule 1, items 4, 15, 23(a), and 33b.

SYSTEM MANAGER(S) AND ADDRESS:

Director, National Hiring Center, Room 400, Whipple Federal Building, One Federal Drive, Fort Snelling, MN 55111.

NOTIFICATION PROCEDURE:

Inquiries should be addressed to the system manager.

RECORD ACCESS PROCEDURE:

Requests for access to a record from this system shall be in writing (e.g., cc: Mail can also be used internally). If a request for access is made by mail the envelope and letter shall be clearly marked “Privacy Act Request.” The requester shall also provide a return address for transmitting the records to be released. The requester shall include his or her full name and SSN. An applicant can access his or her own record by logging onto the system using his or her own SSN and password. This brings the applicant to the main menu screen. The applicant can select, “View Application.” The form is printable. The applicant can also move among the screens. Authorized selecting officials and coordinators can access records within their own budget location code; and system administrators can access all records in the system.

CONTESTING RECORDS PROCEDURE:

Direct all requests to contest or amend information to the system manager noted above. State clearly and concisely the information being contested, the reason for or contesting it, and the proposed amendment thereof. Depending on the information, the coordinator or administrator will be able to make the correction. If the inaccurate information is from the National Finance Center records, the applicant should contact his or her servicing administrative center and report the erroneous information. Clearly mark the envelope “Privacy Act Amendment Request.” The record must be identified in the same manner as described for making a request for access.

RECORD SOURCE CATEGORIES:

Information contained in this system or records is obtained from the individuals covered by the system, or derived from information the individual supplied and from the National Finance Center database.

SYSTEMS EXEMPTED FROM CERTAIN PROVISIONS OF THE ACT:

None.

[FR Doc. 01-5706 Filed 3-7-01; 8:45 am]

BILLING CODE 4410-10-M